DEPARTMENT OF THE TREASURY

Submission for OMB Review; Comment Request

December 5, 2005.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 11, 2006 to be assured of consideration.

Departmental Office (DO)

OMB Number: 1505-0080.

Type of Review: Extension.

Title: Post-Contract Award Information.

Description: Information requested of contractors is specific to each contract and is required for Treasury to properly evaluate the progress made and/or management controls used by contractors providing supplies or services to the Government, and to determine contractors' compliance with the contracts, in order to protest the Government's interest.

Respondents: Business or other for-profit, Not-for-profit institutions.

Estimated Total Burden Hours: 47,796 hours.

OMB Number: 1505-0081.

Type of Review: Extension.

Title: Solicitation of Proposal Information for Award of Public Contracts.

Description: Information requested of offerors is specific to each procurement solicitation and is requested for Treasury to properly evaluate the capabilities and experience of potential contractors who desire to provide the supplies or services to be acquired. Evaluation will be used to determine which proposals most benefit the Government.

Respondents: Business or other for-profit, Not-for-profit institutions.

Estimated Total Burden Hours: 410,988 hours.

OMB Number: 1505-0107.

Type of Review: Extension.

Title: Regulation Agency Protests.

Description: Information is requested of contractors so that the Government will be able to evaluate protests effectively and provide prompt resolution of issues in dispute when contractors file protests.

Respondents: Business or other for-profit, Not-for-profit institutions.

Estimated Total Burden Hours: 46 hours.

Clearance Officer: Jean Carter, (202) 622-6760, Department of Treasury, Office of the Procurement Executive, 1500 Pennsylvania Avenue, NW., Washington, DC 20220.

OMB Reviewer: Alexander T. Hunt, (202) 395-7316, Office of Management and Budget, Room 10235, New Executive Office Building, Washington, DC 20503.

Michael A. Robinson,
Treasury PRA Clearance Officer.

[FR Doc. E5-7198 Filed 12-9-05; 8:45 am]

BILLING CODE 4810-25-P